DEPARTMENT OF JUSTICE

Antitrust Division

Notice Pursuant to the National Cooperative Research and Production Act of 1993—Hybrid Powertrain Joint Effort

Notice is hereby given that, on March 21, 2006, pursuant to section 6(a) of the National Cooperative Research and Production Act of 1993, 15 U.S.C. 4301 et seq. (“the Act”), Hybrid Powertrain Joint Effort has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: General Motors Corporation, Detroit, MI; DaimlerChrysler Corporation, Auburn Hills, MI; Mercedes-Benz Hybrid LLC, Troy, MI; and BMW Hybrid Technology Corporation, Woodcliff Lake, NJ. The general area of Hybrid Powertrain Joint Effort's planned activity is advanced hybrid powertrains for use in various sizes of passenger vehicles.

Dorothy B. Fountain,
Deputy Director of Operations, Antitrust Division.

[FR Doc. 06-3644 Filed 4-14-06; 8:45 am]

BILLING CODE 4410-11-M